DEPARTMENT OF HEALTH AND HUMAN SERVICES

Centers for Disease Control and Prevention

Safety and Occupational Health Study Section; Notice of Solicitation of Nominations for Appointment; Correction

AGENCY: Centers for Disease Control and Prevention (CDC), Department of Health and Human Services (HHS).

ACTION: Notice; correction.

SUMMARY: In accordance with the Federal Advisory Committee Act, the Centers for Disease Control and Prevention (CDC), within the Department of Health and Human Services (HHS), is seeking nominations for membership on the Safety and Occupational Health Study Section (SOHSS). SOHSS consists of 20 experts in fields associated with occupational medicine and nursing, industrial hygiene, occupational safety and engineering, toxicology, chemistry, safety and health education, ergonomics, epidemiology, economic science, psychology, pulmonary pathology/physiology, and social science.

DATES: Nominations for membership on SOHSS must be received no later than January 31, 2025. Packages received after this time will not be considered for the current membership cycle.

ADDRESSES: All nominations should be mailed to Dr. Michael Goldcamp, 1095 Willowdale Road, Morgantown, West Virginia 26505 or emailed to MGoldcamp@cdc.gov.

FOR FURTHER INFORMATION CONTACT: Michael Goldcamp, Ph.D., Scientific Review Officer, Office of Extramural Programs, National Institute for Occupational Safety and Health, Centers for Disease Control and Prevention, 1095 Willowdale Road, Morgantown, West Virginia 26505. Telephone: (304) 285-5951; email: MGoldcamp@cdc.gov.

SUPPLEMENTARY INFORMATION:

Correction

Notice is hereby given of a correction in the SUPPLEMENTARY INFORMATION section of the original solicitation of nominations notice, which was published in the Federal Register on December 2, 2024, 89 FR 95214.

The notice is being amended to remove the sentence concerning Special Government Employees, since members of the Safety and Occupational Health Study Section serve as Peer Review Consultants. The SUPPLEMENTARY INFORMATION section should read as follows:

SUPPLEMENTARY INFORMATION: Nominations are sought for individuals who have the expertise and qualifications necessary to contribute to the accomplishment of the objectives of the Safety and Occupational Health Study Section (SOHSS). Nominees will be selected based on expertise in the fields of occupational medicine and nursing, industrial hygiene, occupational safety and engineering, toxicology, chemistry, safety and health education, ergonomics, epidemiology, economic science, psychology, pulmonary pathology/physiology, and social science. Members may be invited to serve up to four-year terms. Selection of members is based on candidates' qualifications to contribute to the accomplishment of SOHSS objectives (https://www.cdc.gov/faca/committees/sohss.html).

Department of Health and Human Services (HHS) policy stipulates that committee membership be balanced in terms of points of view represented and the committee's function. Appointments shall be made without discrimination on the basis of age, race, ethnicity, gender, sexual orientation, gender identity, HIV status, disability, and cultural, religious, or socioeconomic status. Nominees must be U.S. citizens and cannot be full-time employees of the U.S. Government. Current participation on Federal workgroups or prior experience serving on a Federal advisory committee does not disqualify a candidate; however, HHS policy is to avoid excessive individual service on advisory committees and multiple committee memberships. The Centers for Disease Control and Prevention (CDC) reviews potential candidates for SOHSS membership each year and provides a slate of nominees for consideration to the Secretary of HHS for final selection. HHS notifies selected candidates of their appointment near the start of the term in October 2025, or as soon as the HHS selection process is completed. Note that the need for different expertise varies from year to year and a candidate who is not selected in one year may be reconsidered in a subsequent year.

Candidates should submit the following items:

Current curriculum vitae, including complete contact information (telephone numbers, mailing address, email address).

At least one letter of recommendation from person(s) not employed by HHS. Candidates may submit letter(s) from current HHS employees if they wish, but at least one letter must be submitted by a person not employed by an HHS agency (e.g., CDC, National Institutes of Health, Food and Drug Administration).

Nominations may be submitted by the candidate or by the person/organization recommending the candidate.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-30410 Filed 12-19-24; 8:45 am]

BILLING CODE 4163-18-P